DEPARTMENT OF EDUCATION

President's Advisory Commission on Education Excellence for Hispanic Americans; Meeting

AGENCY: President's Advisory Commission on Educational Excellence for Hispanic Americans, Department of Education.

ACTION: Notice of meeting.

SUMMARY: This notice sets forth the schedule and proposed agenda of a forthcoming meeting of the President's Advisory Commission on Education Excellence for Hispanic Americans (Commission). Notice of this meeting is required under Section 10(a)(2) of the Federal Advisory Committee Act in order to notify the public of their opportunity to attend. The public is not receiving a 15 day notice of the meeting because of delays in finalizing meeting logistics.

DATES AND TIMES: Friday, June 16, from 9 a.m.-5 p.m.

ADDRESSES: U.S. Department of Education, 400 Maryland Ave., SW, FOB-6, Rm. 5E100, Washington, DC.

FOR FURTHER INFORMATION CONTACT: Deborah Santiago, Deputy Director, at 202-401-1411 (telephone), 202-401-8377 (fax), deborah_santiago@ed.gov (e-mail) or mail: U.S. Department of Education, 400 Maryland Ave., SW, room 5E110; Washington, DC 20202-3601.

SUMMARY INFORMATION: The Commission was established under Executive Order 12900 (February 22, 1994) to provide the President and the Secretary of Education with advice on (1) the progress of Hispanic Americans toward achievement of the National Goals and other standards of educational accomplishment; (2) the development, monitoring, and education for Hispanic Americans; (3) ways to increase, State, county, private sector and community involvement in improving education; and (4) ways to expand and complement Federal education initiatives.

At this June meeting, the Commission will discuss current and future activities. Specifically, the Commission will focus on ways to institutionalize its work, including ongoing efforts to bring more awareness about federal programs and activities that are assisting Latinos.

Individuals who will need accommodations for a disability in order to attend the meeting (i.e., interpreting services, assistive listening devices, materials in alternative format) should notify Deborah Santiago, at (202) 401-1411, by no later than June 10. We will attempt to meet requests after this date, but cannot guarantee availability of the requested accommodation. The meeting site is accessible to individuals with disabilities.

Records of all Commission proceedings are available for public inspection at the White House Initiative, U.S. Department of Education, 400 Maryland Ave., SW, Room 5E110, Washington, DC 20202 from 9 a.m. to 5 p.m. (est).

Dated: June 1, 2000.
G. Mario Moreno,
Assistant Secretary, Office of Intergovernmental and Interagency Affairs.

[FR Doc. 00-14423 Filed 6-7-00; 8:45 am]

BILLING CODE 4000-01-M